COMMITTEE FOR THE IMPLEMENTATION OF TEXTILE AGREEMENTS

Exempting Certain Textiles and Textile Products of the People's Republic of China from Safeguard Import Limits

December 23, 2004.

AGENCY: Committee for the Implementation of Textile Agreements (CITA).

ACTION: Exempting Certain Products from China Textile Safeguard Import Limit.

SUMMARY: The Committee for the Implementation of Textile Agreements (CITA) has determined that certain products, exempted from visa and quota requirements under previous arrangements, should also be exempted from limits imposed on textile and textile product imports from China under paragraph 242 of the Report of the Working Party on the Accession of China to the World Trade Organization (Accession Agreement).

EFFECTIVE DATE: December 29, 2004.

FOR FURTHER INFORMATION CONTACT: Ross Arnold, Office of Textiles and Apparel, U.S. Department of Commerce, (202) 482-3400.

SUPPLEMENTARY INFORMATION:

Authority: Section 204 of the Agricultural Act of 1956, as amended (7 U.S.C. 1854); Executive Order 11651 of March 3, 1972, as amended.

Paragraph 242 of the Report of the Working Party on the Accession of China to the World Trade Organization (WTO) allows WTO Members that believe imports of Chinese origin textile and apparel products are, due to market disruption, threatening to impede the orderly development of trade in these products to request consultations with the People's Republic of China with a view to easing or avoiding such market disruption. CITA has imposed limits on imports from China pursuant to Paragraph 242 (see 68 FR 74944, 68 FR 74945, 68 FR 74947, and 69 FR 63371).CITA has in the past exempted from quota and visa requirements textile and textile products entered under certain subheadings of the Harmonized Tariff Schedule of the United States (HTS), including articles, previously imported, with respect to which the duty was paid upon such previous importation or which were previously free of duty, entered under HTS subheadings 9801.00.20, 9801.00.25, or 9801.00.26; articles returned to the United States after having been exported to be advanced in value or improved in condition, entered under HTS subheadings 9802.00.40 or 9802.00.50; certain commercial samples treated to be unsuitable for sale or for use otherwise than as a sample, to be used in the United States only for soliciting orders for products of foreign countries valued at U.S. $1 or less, entered under HTS subheading 9811.00.60; articles to be repaired, altered or processed (including processes which result in articles manufactured or produced in the United States), entered under HTS subheading 9813.00.05; articles not intended for sale or distribution to the public that are associated with an international athletic event held in the United States, such as the Olympics or similar international athletic event, entered under HTS subheading 9817.60.00. CITA has also exempted properly marked commercial samples valued at $800 or less from these requirements.

In the directive below, the Chairman of CITA directs the Commissioner, Customs and Border Protection, to exempt such items from limits imposed under Paragraph 242.

D. Michael Hutchinson,
Acting Chairman, Committee for the Implementation of Textile Agreements.

Committee for the Implementation of Textile Agreements

December 23, 2004.

Commissioner,

Bureau of Customs and Border Protection, Washington, D.C. 20229.

Dear Commissioner: Effective on December 29, 2004, in accordance with paragraph 242 of the China Accession Agreement and the procedures set forth by the Committee on May 21, 2003 (68 FR 27787), as clarified on August 18, 2003 (68 FR 49440), the United States has established, and may in future establish, safeguard limits on certain textile and apparel products from China.

Properly marked commercial samples valued at U.S.$800 or less and importations under HTS items:

9801.00.20

9801.00.25

9801.00.26

9802.00.40

9802.00.50

9811.00.60

9813.00.05

9817.60.00

shall not be charged to applicable quota limits.

The Committee for the Implementation of Textile Agreements has determined that this action falls within the foreign affairs exception to the rulemaking provisions of 5 U.S.C. 553(a)(1).

Sincerely,

D. Michael Hutchinson,

Acting Chairman, Committee for the Implementation of Textile Agreements.

[FR Doc. 04-28525 Filed 12-28-04; 8:45 am]

BILLING CODE 3510-DS-S